Proclamation 9869 of April 30, 2019

National Foster Care Month, 2019

By the President of the United States of America

A Proclamation

The future of our Nation rests with our children. We must invest in their futures, instill in them the values of family, faith, and country, and ensure they have every opportunity to realize their full potential. The development of our children begins at home, and my Administration is fully committed to strengthening American families.

This month, we recognize that there are children in our towns and communities who may not have a family, or whose families may be experiencing great difficulty and hardship. In America, we believe in standing beside these children, walking with them through their trials, and finding permanent and safe families for each of them. Kindhearted citizens across our land embody this belief, dedicating their time and efforts in doing so. In fiscal year 2017 alone, American families opened their doors to 443,000 young people in foster care—a number that has increased each of the last 5 years. During National Foster Care Month, we honor these patriots, who open their hearts to children who need a home, and who care for the most vulnerable among us. We also acknowledge the profound contributions of the individuals and organizations supporting foster and kinship caregivers, and those of the community providers and professionals who are helping children in foster care find safe and stable families.

We must strive to keep families united, wherever possible, and my Administration is working to reduce the removal of at-risk children from their homes and familiar surroundings. Last year, I signed into law the Family First Prevention Services Act, which is working to bolster families and keep children safely in their homes, when possible. This legislation gives States access to funding for evidence-based prevention and early intervention services such as mental health therapy, family counseling, substance use and addiction treatment, and parenting classes. By allowing States to address factors, such as the opioid crisis, America's sons and daughters are more likely to experience improved outcomes and hope for a brighter future.

When it becomes necessary to move children out of their homes in order to provide more safety, stability, and opportunity, placement with relatives who can provide that environment is the first option. Children often experience less trauma when in kinship care, which is why the Federal Government is funding programs that provide family caregivers the services and support they need and requiring States to demonstrate how their foster care licensing standards promote family-friendly options.

Children deserve stable family environments, and foster care provides a wonderful opportunity for selfless and compassionate men and women to nurture children while we work to ensure that they have a forever family. This month, and always, we express our gratitude to all of the families who generously open their doors to children in need and provide them with love and support. We recommit to looking for opportunities to invest in the lives of our vulnerable young people, and we celebrate those who tirelessly serve our Nation's children in foster care.

NOW, THEREFORE, I, DONALD J. TRUMP, President of the United States of America, by virtue of the authority vested in me by the Constitution and the laws of the United States, do hereby proclaim May 2019 as National Foster Care Month. I call upon all Americans to observe this month by taking time to help children and youth in foster care, and to recognize the commitment of those who touch their lives, particularly celebrating their foster parents and other caregivers.

IN WITNESS WHEREOF, I have hereunto set my hand this thirtieth day of April, in the year of our Lord two thousand nineteen, and of the Independence of the United States of America the two hundred and forty-third.

[FR Doc. 2019-09315

Filed 5-3-19; 8:45 am]

Billing code 3295-F9-P